DEPARTMENT OF ENERGY

Federal Energy Regulatory Commission

[Docket No. EC03-140-000, et al.]

Blue Canyon Windpower LLC, et al.; Electric Rate and Corporate Filings

October 6, 2003.

The following filings have been made with the Commission. The filings are listed in ascending order within each docket classification.

1. Blue Canyon Windpower LLC

[Docket No. EC03-140-000]

Take notice that on September 30, 2003, Blue Canyon Windpower LLC (Blue Canyon), submitted an application pursuant to Section 203 of the Federal Power Act, seeking authorization for a transaction that would result in the transfer of indirect control of certain transmission facilities associated with Blue Canyon's planned 45-turbine wind farm located in southwestern Oklahoma and Blue Canyon's anticipated tariff for sales of power at wholesale, and requesting expedited consideration of its Application and certain waivers.

Blue Canyon states that the Transaction will have no effect on competition, rates or regulation and is in the public interest.

Comment Date: October 21, 2003.

2. Kloco Corporation

[Docket No. ER96-1735-001]

Take notice that on September 30, 2003, Kloco Corporation filed an amendment to their August 27, 2003 filing in Docket No. ER03-1259-000. Kloco Corporation states they are submitted a new Rate Schedule No.1 due to the change of name of GDK Corporation to Kloco Corporation.

Comment Date: October 21, 2003.

3. Devon Power LLC, Middletown, Power LLC, Montville Power LLC, Norwalk Power LLC and NRG, Power Marketing Inc.

[Docket No. ER03-563-022]

Take notice that on September 30, 2003, Devon Power LLC, Middletown Power LLC, Montville Power LLC, Norwalk Power LLC (collectively Applicants) and NRG Power Marketing Inc tendered an Errata to their compliance filing submitted August 5, 2003, in Docket No. ER03-563-013.

Applicants state that they have provided copies of the Errata Filing to ISO-NE and served each person designated on the official service list compiled by the Secretary in this proceeding.

Comment Date: October 21, 2003.

4. PJM Interconnection, L.L.C.

[Docket No. ER03-1086-001]

Take notice that on September 30, 2003, PJM Interconnection, L.L.C. (PJM) in compliance with the Commission's September 15, 2003 Order in this proceeding, 104 FERC ¶ 61,291 (2003), filed revisions to the PJM Open Access Transmission Tariff and the Amended and Restated Operating Agreement of PJM Interconnection, L.L.C. to change a section cross-reference. PJM states, however, that it is submitting the filing subject to the outcome of a separately filed rehearing request because the Commission's September 15 Order is mistaken and the section reference originally filed by PJM was correct.

PJM states that the compliance tariff sheets have an effective date of July 18, 2003, as established by the September 15 Order.

PJM states that copies of this filing have been served on all PJM members and utility regulatory commissions in the PJM region and on all parties listed on the official service list compiled by the Secretary in this proceeding.

Comment Date: October 21, 2003.

5. Entegra North America, L.P.

[Docket No. ER03-1170-002]

Take notice that on September 30, 2003, Entegra North America, L.P. submitted for filing an amended Rate Schedule No. 1. to the filing originally submitted on August 6, 2003 and amended on September 22, 2003.

Comment Date: October 21, 2003.

6. American Electric Power Service Corporation

[Docket No. ER03-1401-000]

Take notice that on September 30, 2003, the American Electric Power Service Corporation (AEPSC), tendered for filing a New Network Integration Transmission Service Agreement (NITSA) for MidAmerican Energy Company (MECR). AEP also requests termination of NITSA No. 403, an agreement with MidAmerican Energy Company that ended its initial term as of mid-night August 30, 2003. AEPSC states that these agreements are pursuant to the AEP Companies' Open Access Transmission Tariff that has been designated as the Operating Companies of the American Electric Power System FERC Electric Tariff Third Revised Volume No. 6.

AEPSC requests waiver of notice to permit the Service Agreements to be made effective on and after September 1, 2003.

AEPSC states that a copy of the filing was served upon the Parties and the state utility regulatory commissions of Arkansas, Indiana, Kentucky, Louisiana, Michigan, Ohio, Oklahoma, Tennessee, Texas, Virginia and West Virginia.

Comment Date: October 21, 2003.

7. Progress Energy, Inc. On Behalf of Florida Power Corporation

[Docket No. ER03-1402-000]

Take notice that on September 30, 2003, Florida Power Corporation (FPC) tendered for filing an executed Interconnection and Operating Agreement with The City of Gainesville Florida. FPC Interconnection Agreement is being filed as a Service Agreement under the terms and conditions of the Open Access Transmission Tariff filed on behalf of Florida Power Corporation.

FPC is requesting an effective date of October 15, 2003 for this Service Agreement. FPC states that a copy of this filing was served upon the North Carolina Utilities Commission and the Florida Public Service Commission.

Comment Date: October 21, 2003.

8. California Independent System Operator Corporation

[Docket No. ER03-1404-000]

Take notice that, on September 30, 2003, the California Independent System Operator Corporation (ISO) submitted an informational filing as to the ISO's updated transmission Access Charge rates effective as of October 1, 2003.

The ISO states that this filing has been served upon the Public Utilities Commission of the State of California, the California Energy Commission, the California Electricity Oversight Board, the Participating Transmission Owners, and upon all parties with effective Scheduling Coordinator Service Agreements under the ISO Tariff. In addition, the ISO states that it is posting the filing on the ISO Home Page.

Comment Date: October 21, 2003.

9. Ameren Services Company

[Docket No. ER03-1405-000]

Take notice that on September 30, 2003, Ameren Services Company (ASC) tendered for filing Service Agreements for Network Integration Transmission Service and a Network Operating Agreement between ASC and Ameren Energy Marketing Company as agent for retail customer Keystone Steel and Wire (Keystone). ASC states that the purpose of the Agreement is to permit ASC to provide transmission service to Keystone pursuant to Ameren's Open Access Transmission Tariff.

Comment Date: October 21, 2003.

10. Ameren Services Company

[Docket No. ER03-1406-000]

Take notice that on September 30, 2003, Ameren Services Company (ASC) tendered for filing an executed Service Agreement for Firm Point-to-Point Transmission Services between ASC and Ameren Energy. ASC states that the purpose of the Agreement is to permit ASC to provide transmission services to Ameren Energy pursuant to Ameren's Open Access Transmission Tariff.

Comment Date: October 21, 2003.

11. Michigan Electric Transmission Company, LLC

[Docket No. ER03-1407-000]

Take notice that on September 30, 2003, Michigan Electric Transmission Company, LLC (METC) submitted an Interconnection Facilities Agreement (IFA) between METC, Wolverine Power Supply Cooperative, Inc. (Wolverine), and Traverse City Light and Power Department. METC requests an effective date for the IFA of October 1, 2003.

Comment Date: October 21, 2003.

12. Public Service Company of Colorado

[Docket Nos. ER03-1408-000 and ER03-1408-001]

Take notice that on September 30, 2003 as amended on October 1, 2003, Public Service Company of Colorado (PS Colorado) filed an Interim Restated Power Supply Agreement (Interim Restated PSA) between PS Colorado and Aquila, Inc. (Aquila), doing business as Aquila Networks-Colorado, under PS Colorado's Rate Schedule for Market-Based Power Sales. The Interim Restated PSA supersedes, in its entirety, the 1999 Power Supply Agreement, between PS Colorado and Aquila, designated as Service Agreement No. 6 under PS Colorado's FERC Electric Tariff, Original Volume No. 6.

PS Colorado seeks an effective date of October 1, 2003 for the Interim Restated PSA and, accordingly, seeks waiver of the Commission's notice requirements. PS Colorado states that copies of the filings have been served on Aquila and the Colorado Public Utilities Commission.

Comment Date: October 21, 2003.

13. PJM Interconnection, L.L.C.

[Docket No. ER03-1409-000]

Take notice that on September 30, 2003, as directed by the Commission's March 12, 2003 Order in Docket No. ER03-406-000, 102 FERC ¶ 61,276, PJM Interconnection, L.L.C. (PJM) filed revisions to the auction revenue rights (ARR) allocation provisions in the PJM Operating Agreement (Operating Agreement) and PJM Open Access Transmission Tariff (Tariff), to provide additional detail on the designation of alternative source busses for ARRs.

PJM requests an effective date of February 1, 2004 for the proposed revisions.

PJM states that copies of its filing were served on all PJM members and utility regulatory commissions in the PJM region.

Comment Date: October 21, 2003.

14. Fitchburg Gas and Electric Light Company

[Docket No. ER03-1410-000]

Take notice that on September 30, 2003, Fitchburg Gas and Electric Light Company (FG&E) tendered for filing with the Federal Energy Regulatory Commission amendments to its Open Access Transmission Tariff. FG&E proposes to revise its non-Pool Transmission Facilities rates to establish and implement an annual formula rate, replacing a stated rate. FG&E also states that it proposes to make certain additional changes to its Tariff to update its currently effective Tariff and to reflect the change to a formula rate.

FG&E states that a copy of the filing was served upon the Massachusetts Department of Telecommunications and Energy and on all affected customers.

Comment Date: October 21, 2003.

15. American Transmission Systems, Inc.

[Docket No. ER03-1411-000]

Take notice that on September 30, 2003, American Transmission Systems, Inc. (ATSI) tendered for filing First Revised Service Agreement No. 337, an executed Network Integration Transmission Service Agreement with Buckeye Power, Inc. (Buckeye) under ATSI's Open Access Transmission Tariff, FERC Electric Tariff, Second Revised Volume No. 1. ATSI states that the revision modifies the charges at four distribution-level delivery points; and establishes the loss factor for customers taking service over ATSI's 69 kV transmission facilities as of October 1, 2003, when the Midwest ISO will begin providing transmission service over ATSI's facilities. ATSI requests that the agreement be placed in effect on July 1, 2003.

ATSI states that copies of the filing were served upon Buckeye and the Public Utilities Commission of Ohio.

Comment Date: October 21, 2003.

16. Midwest Independent Transmission System Operator, Inc.

[Docket No. ER03-1412-000]

Take notice that on September 30, 2003, the Midwest Independent Transmission System Operator, Inc. (Midwest ISO) and the Midwest ISO Transmission Owners and Coordinating Owner submitted for filing proposed revisions to the Agreement of Transmission Facilities Owners to Organize the Midwest Independent Transmission System Operator, Inc., a Delaware Non-Stock Corporation (Midwest ISO Agreement), Midwest ISO FERC Electric Tariff, First Revised Rate Schedule No. 1, and the Midwest ISO Open Access Transmission Tariff (Midwest ISO OATT), FERC Electric Tariff, Second Revised Volume No. 1, in order to provide clarification of the process for distributing revenues collected under Schedule 18 of the Midwest ISO OATT regarding Sub-Regional Rate Adjustment.

The Midwest ISO and the Midwest ISO Transmission Owners and Coordinating Owner requested waiver of the notice provision of Section 205 of the Federal Power Act in order to accommodate an effective date of October 1, 2003, or the first date that one of the GridAmerica Companies places its facilities under the Midwest ISO OATT and charges under Schedule 18 begin.

The Midwest ISO and the Midwest ISO Transmission Owners and Coordinating Owner have also requested waiver of the service requirements set forth in 18 CFR 385.2010. The Midwest ISO states that it has electronically served a copy of this filing, with attachments, upon all Midwest ISO Members, Member representatives of Transmission Owners and Non-Transmission Owners, as well as all state commissions within the region. In addition, the filing has been electronically posted on the Midwest ISO's Web site at http://www.midwestiso.org under the heading “Filings to FERC” for other interested parties in this matter. The Midwest ISO will provide hard copies to any interested parties upon request.

Comment Date: October 21, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00295 Filed 11-18-03; 8:45 am]

BILLING CODE 6717-01-P